DEPARTMENT OF THE INTERIOR

National Park Service

Correction—Native American Graves Protection and Repatriation Review Committee: Meeting

AGENCY: National Park Service, Interior.

ACTION: Correction.

Notice is hereby given in accordance with the Federal Advisory Committee Act (FACA), 5 U.S.C. Appendix (1988), that a meeting of the Native American Graves Protection and Repatriation Review Committee will be held on May 31, and June 1 and 2, 2001, in Kelseyville, CA. This notice corrects the agenda, and the telephone number and e-mail address of the Assistant Director, Cultural Resources Stewardship and Partnerships in the meeting notice published on March 26, 2001.

The third paragraph of the March 26, 2001, notice is corrected as follows:

The agenda for the meeting will include discussion of the 1999/2000 and 2001 reports to Congress, Federal agency compliance, status of pending disputes, contamination of cultural items, reburial on Federal lands, and implementation of the statute in the western United States.

The seventh paragraph of the March 26, 2001, notice is corrected as follows:

Persons wishing further information concerning this meeting may contact Mr. John Robbins, Assistant Director, Cultural Resources Stewardship and Partnerships, 1849 C Street NW., 350 NC, Washington, DC 20240, telephone (202) 343-3388, fax (202) 343-5260, e-mail john_robbins@nps.gov. Transcripts of the meeting will be available for public inspection approximately eight weeks after the meeting at the office of the Assistant Director, Cultural Resources Stewardship and Partnerships, 800 North Capitol Street NW., Suite 350, Washington, DC 20001.

Dated: May 1, 2001.
John Robbins,
Assistant Director, Cultural Resources Stewardship and Partnerships.

[FR Doc. 01-12015 Filed 5-11-01; 8:45 am]

BILLING CODE 4310-70-F